DEPARTMENT OF LABOR

Employment and Training Administration

[TA-W-60,252; TA-W-60,252F; TA-W-60,252G]

Shogren Hosiery Manufacturing Co., Inc., Including Leased Workers of Corestaff, Concord, NC; Including Employees of Shogren Hosiery Manufacturing Co., Inc., Concord, NC, Located at the Following Locations: Staten Island, NY and New York, NY; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification Regarding Eligibility to Apply for Worker Adjustment Assistance and Alternative Trade Adjustment Assistance on November 16, 2006, applicable to workers of Shogren Hosiery Manufacturing Co., Inc., including leased workers of Corestaff, Concord, North Carolina. The notice was published soon in the Federal Register on November 28, 2006 (71 FR 68840).

At the request of a company official, the Department reviewed the certification for workers of the subject firm.

New information shows that worker separations have occurred involving employees of the Concord, North Carolina facility of Shogren Hosiery Manufacturing Co., Inc., controlled out of the Concord facility but working from locations in Staten Island, New York and New York, New York. These employees provided customer liaison and sales functions in support of the production of women's hosiery and tights produced at the Concord, North Carolina location of the subject firm.

Based on these findings, the Department is amending this certification to include employees of the Concord, North Carolina facility of Shogren Hosiery Manufacturing Co., Inc. working out of the above mentioned locations.

The intent of the Department's certification is to include all workers of Shogren Hosiery Manufacturing Co., Inc., Concord, North Carolina who were adversely affected by increased imports.

The amended notice applicable to TA-W-60,252 is hereby issued as follows:

All workers of Shogren Hosiery Manufacturing Co., Inc., including leased workers of Corestaff, Concord, North Carolina (TA-W-60,252), including employees of Shogren Hosiery Manufacturing Co., Inc., Concord, North Carolina located in Plant, Texas (TA-W-60,252A), Freehold, New Jersey (TA-W-60,252B), Hope Sound, Florida (TA-W-60,252C), Boca Raton, Florida (TA-W-60,252D) and Bentonville, Arkansas (TA-W-60,252E), Staten Island, New York (TA-W-60,252F), and New York, New York (TA-W-60,252G), who became totally or partially separated from employment on or after October 17, 2005, through November 16, 2008, are eligible to apply for adjustment assistance under section 223 of the Trade Act of 1974, and are also eligible to apply for alternative trade adjustment assistance under section 246 of the Trade Act of 1974.”

Signed at Washington, DC, this 4th day of January 2008.
Richard Church,
Certifying Officer, Division of Trade Adjustment Assistance.

[FR Doc. E8-588 Filed 1-15-08; 8:45 am]

BILLING CODE 4510-FN-P